FEDERAL COMMUNICATIONS COMMISSION

47 CFR Part 73

[DA 05-290; MB Docket No. 05-32; RM-10988]

Radio Broadcasting Services; Homerville, GA

AGENCY: Federal Communications Commission.

ACTION: Proposed rule.

SUMMARY: This document requests comments on a petition for rulemaking filed by Association for the Studies of American Heritage Corporation, requesting the allotment of Channel 246A at Homerville, Georgia, as the community's second local aural transmission service. Petitioner's proposal also requires the reclassification of Station WKQL(FM), Jacksonville, Florida, Channel 245C to specify operation on Channel 245C0 pursuant to the reclassification procedures adopted by the Commission. See Second Report and Order in MM Docket 98-93 (1998 Biennial Regulatory Review—Streamlining of Radio Technical Rules in Parts 73 and 74 of the Commission's Rules) 65 FR 79773 (2000). An Order to Show Cause was issued to Cox Radio, Inc., licensee of Station WKQL(FM) (RM-10988) Channel 246A can be allotted at Homerville, Georgia, at Petitioner's requested site 11.1 kilometers (6.9 miles) northwest of the community at coordinates 31-07-16 NL and 82-48-51 WL .

DATES: Comments must be filed on or before March 28, 2005, and reply comments on or before April 12, 2005. Any counterproposal filed in this proceeding need only protect Station WKQL(FM), Jacksonville, Florida, as a Class C0 allotment.

ADDRESSES: Federal Communications Commission, 445 Twelfth Street, SW., Washington, DC 20554. In addition to filing comments with the FCC, interested parties should serve the petitioner, and Station WKQL as follows: Clyde Scott, Jr., President, Association for the Studies of American Heritage, 293 JC Saunders Road, Moultrie, Georgia 31768; WKQL Radio, Cox Radio, Inc., 8000 Belfort Parkway, Jacksonville, Florida 32256; and Kevin F. Reed, Esq., Dow Lohnes & Albertson, PLLC, Suite 800, 1200 New Hampshire Ave., NW., Washington, DC 20036, (Counsel to Cox Radio, Inc.).

FOR FURTHER INFORMATION CONTACT: Victoria McCauley, Media Bureau, (202) 418-2180.

SUPPLEMENTARY INFORMATION: This is a synopsis of the Commission's Notice of Proposed Rule Making, MB Docket No. 05-32, adopted February 2, 2005, and released February 4, 2005. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Georgia is amended by adding Channel 246A at Homerville.

3. Section 73.202(b), the Table of FM Allotments under Florida is amended by removing Channel 245C and adding Channel 245C0 at Jacksonville.

Federal Communications Commission.
John A. Karousos,
Assistant Chief, Audio Division, Media Bureau.

[FR Doc. 05-3213 Filed 2-17-05; 8:45 am]

BILLING CODE 6712-01-P